DEPARTMENT OF TRANSPORTATION

Office of the Secretary

Notice of Applications for Certificates of Public Convenience and Necessity and Foreign Air Carrier Permits Filed Under Subpart B (formerly Subpart Q) during the Week Ending May 4, 2001

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-9589.

Date Filed: April 30, 2001.

Due Date for Answers, Conforming Applications, or Motion to Modify Scope: May 21, 2001.

Description: Application of Gulf & Caribbean Cargo, Inc. d/b/a Gulf & Caribbean Air, pursuant to 49 U.S.C. 41102(a)(3), Parts 201 and 204 and Subpart B, requesting a fitness determination and for issuance of a certificate of public convenience and necessity to engage in foreign charter air transportation of persons, property and mail between points in the United States and points in Canada, Mexico, the Caribbean and Central and South America.

Docket Number: OST-2001-9590.

Date Filed: April 30, 2001.

Due Date for Answers, Conforming Applications, or Motion to Modify Scope: May 21, 2001.

Description: Application of Gulf & Caribbean Cargo, Inc. d/b/a Gulf & Caribbean Air, pursuant to 49 U.S.C. 41102(a)(3), Parts 201 and 204 and Subpart B, requesting a fitness determination and issuance of a certificate of public convenience and necessity to engage in interstate charter air transportation of persons, property and mail, as follows: between any point in any state, territory or possession of the United States or the District of Columbia, and any other point in any of those entities.

Docket Number: OST-2001-9622.

Date Filed: May 4, 2001.

Due Date for Answers, Conforming Applications, or Motion to Modify Scope: May 25, 2001.

Description: Application of Continental Airlines, Inc., pursuant to 49 U.S.C. Section 41102 and Subpart B, requesting renewal of its Route 699 certificate authorizing Continental to provide scheduled air transportation of persons, property and mail between Houston, Texas and Lima, Peru, and to combine this authority with its other certificate and exemption authority.

Dorothy Y. Beard,
Federal Register Liaison.

[FR Doc. 01-12550 Filed 5-17-01; 8:45 am]

BILLING CODE 4910-62-P